DEPARTMENT OF COMMERCE

National Oceanic and Atmospheric Administration

[I.D. 112100D]

New England Fishery Management Council; Public Meetings

AGENCY: National Marine Fisheries Service (NMFS), National Oceanic and Atmospheric Administration (NOAA), Commerce.

ACTION: Notice of public meetings.

SUMMARY: The New England Fishery Management Council (Council) is scheduling a public meeting of its Groundfish Committee and Scientific and Statistical Committee in December, 2000 to consider actions affecting New England fisheries in the exclusive economic zone (EEZ). Recommendations from these groups will be brought to the full Council for formal consideration and action, if appropriate.

DATES: The meetings will held between Monday, December 18 and Tuesday, December 19, 2000. See SUPPLEMENTARY INFORMATION for specific dates and times.

ADDRESSES: The meetings will be held in Newburyport, MA and Portland, ME. See SUPPLEMENTARY INFORMATION for specific locations.

FURTHER INFORMATION CONTACT: Paul J. Howard, Executive Director, New England Fishery Management Council; (978)465-0492.

SUPPLEMENTARY INFORMATION:

Meeting Dates and Agendas

Monday, December 18, 2000, 9:30 a.m. and Tuesday, December 19, 2000, 8:30 p.m.- Groundfish Oversight Committee Meeting

Location: Holiday Inn By the Bay, 88 Spring Street, Portland, ME 04101; telephone: (207) 775-2311.

The Groundfish Oversight Committee will continue developing its recommendations for management alternatives for Amendment 13 to the Northeast Multispecies Fishery Management Plan. This will include recommendations on rebuilding programs, measures to address capacity issues, and the four broad approaches to management that are under consideration (status quo, adjustments to the status quo, area management, and sector allocation). The committees' recommendations will be reviewed by the Council at a future date. After approval by the Council, the proposed alternatives will be analyzed and a draft Supplemental Environmental Impact Statement and public hearing document will be prepared. The Committee will meet in a closed session to review advisory panel applications.

The Committee will also identify management alternatives for a framework adjustment to reduced discards of Gulf of Maine cod and ensure mortality objectives are met. The initial meeting for this framework adjustment will be the January 23-25, 2000 Council meeting. The final meeting will not be scheduled until after receipt of an updated Gulf of Maine cod assessment in summer, 2001. Finally, the committee will receive a report from the state of Maine on an experimental halibut fishery.

Tuesday, December 19, 2000, 10 a.m. - Scientific and Statistical Committee

Location: New England Fishery Management Council office, 50 Water Street, Mill #2, Newburyport, MA 01960; telephone: (978) 465-0492.

Develop priorities in terms of how the committee might consider or handle the following issues or questions in the next year: review management reference points for monkfish; review management reference points for selected groundfish species; identify scallop assessment, science and management issues that should be addressed in the Council’s management of scallops; review of skate overfishing definitions (to be developed); discuss biological-toxin issues such as questions about whether chemical contaminants affect the reproductive potential, survivability, and recruitment of Council-managed species; discuss questions about whether the ecosystem can support all stocks at Bmsy simultaneously and the feasibility of a single control rule for the entire multispecies fishery rather than for individual stocks; review of the monkfish assessment update (to be done by the Monkfish Plan Development Team); review a DNA study about monkfish stock delineation. The committee will also elect a Chair and Vice-Chair.

Although non-emergency issues not contained in this agenda may come before this Council for discussion, those issues may not be the subject of formal Council action during this meeting. Council action will be restricted to those issues specifically listed in this notice and any issues arising after publication of this notice that require emergency action under section 305(c) of the Magnuson-Stevens Act, provided the public has been notified of the Council's intent to take final action to address the emergency.

Special Accommodations

These meetings are physically accessible to people with disabilities. Requests for sign language interpretation or other auxiliary aids should be directed to Paul J. Howard (see ADDRESSES) at least 5 days prior to the meeting dates.

Dated: November 22, 2000.
Richard W. Surdi,
Acting Director, Office of Sustainable Fisheries, National Marine Fisheries Service.

[FR Doc. 00-30420 Filed 11-28-00; 8:45 am]

BILLING CODE 3510-22-S